DEPARTMENT OF COMMERCE

National Oceanic and Atmospheric Administration

[RTID 0648-XD178]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council, including joint meetings with the Atlantic States Marine Fisheries Commission (ASMFC) Summer Flounder, Scup, and Black Sea Bass Management Board, the ASMFC Interstate Fishery Management Program Policy Board, and the ASMFC Bluefish Management Board.

DATES: The meetings will be held Tuesday, August 8 through Friday, August 11, 2023. For agenda details, see SUPPLEMENTARY INFORMATION.

ADDRESSES: This meeting will be an in-person meeting with a virtual option. Council members, other meeting participants, and members of the public will have the option to participate in person at the Westin Annapolis, 100 Westgate Circle, Annapolis, MD 21401; phone: (410) 972-4300, or virtually via Webex webinar. Webinar connection instructions and briefing materials will be available at: https://www.mafmc.org/briefing/august-2023.

Council address: Mid-Atlantic Fishery Management Council, 800 N. State St., Suite 201, Dover, DE 19901; telephone: (302) 674-2331; www.mafmc.org.

FOR FURTHER INFORMATION CONTACT: Christopher M. Moore, Ph.D. Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible.)

Tuesday, August 8, 2023

Council Meeting With the Atlantic States Marine Fisheries Commission (ASMFC) Summer Flounder, Scup, and Black Sea Bass Management Board

Summer Flounder 2024-2025 Specifications

Review recommendations from the Scientific and Statistical Committee (SSC), Monitoring Committee, Advisory Panel, and staff

Adopt specifications for 2024-2025

Review and revise 2024-2025 commercial measures if needed

Scup 2024-2025 Specifications

Review recommendations from the SSC, Monitoring Committee, Advisory Panel, and staff

Adopt specifications for 2024-2025

Review and revise 2024-2025 commercial measures if needed

Scup Commercial Discards Report

Review commercial scup discards through 2022

Review Scup GRA analysis and discuss next steps

Black Sea Bass 2024 Specifications

Review recommendations from the SSC, Monitoring Committee, Advisory Panel, and staff

Adopt specifications for 2024

Review and revise 2024 commercial measures if needed

ASMFC Summer Flounder, Scup, and Black Sea Bass Board Only

ASMFC Summer Flounder, Scup, and Black Sea Bass Fishery Management Plan

Review

Elect Board vice chair

Wednesday, August 9, 2023

Council Meeting With the ASMFC Interstate Fishery Management Program (ISFMP) Policy Board

Recreational Harvest Control Rule Framework/Addenda 2.0

Review progress and discuss next steps

Council Meeting with the ASMFC Bluefish Management Board

Bluefish 2024-2025 Specifications

Review recommendations from the SSC, Monitoring Committee, Advisory Panel, and staff

Adopt specifications for 2024-2025 including recreational management measures

ASMFC Bluefish Board Only

ASMFC Bluefish Fishery Management Plan Review

Elect Board vice chair

Mid-Atlantic Fishery Management Council Convenes

East Coast Scenario Planning Initiative

Review outcomes and discuss MAFMC next steps

NOAA Fisheries Climate Governance Policy

Review NOAA Fisheries draft policy and SSC comments

Develop Council comments

Award Presentations

Presentation of Award of Excellence, Ricks E Savage Award, and acknowledgement of outgoing Council member

Thursday, August 10, 2023

Atlantic Mackerel 2024-2025 Specifications

Review results of 2023 Management Track Assessment and rebuilding progress

Review results of 2023 Canadian assessment/management actions

Review recommendations from the SSC, Monitoring Committee, Advisory Panel, and staff

Adopt specifications for 2024-2025

Consider emergency action request and/or Framework initiation if appropriate given assessment results

River Herring and Shad (RH/S)

Review RH/S update

Review recommendations from the RH/S Committee, RH/S Advisory Panel,

Mackerel, Squid, and Butterfish Monitoring Committee, and staff

Adopt RH/S cap (Atlantic mackerel fishery) for 2024-2025

National Fish and Wildlife Foundation Electronic Monitoring and Reporting Grant Program—Gray Redding, NFWF

Update on the NFWF electronic monitoring and reporting grant program

Longfin Squid 2024-2026 Specifications

Review results of 2023 Management Track Assessment

Review recommendations from the SSC, Monitoring Committee, Advisory Panel, and staff

Adopt specifications for 2024-2026

Illex Hold Baseline FW Meeting #1

Review recommendations from the Mackerel, Squid, and Butterfish Committee, Advisory Panel, and staff

Review and approve range of alternatives

Research Set-Aside Program Redevelopment

Update on the redevelopment of the Research Set-Aside program

Advanced Notice of Proposed Rulemaking (ANPR): National Standard 4, 8, and 9 Comments

Review comments developed for NOAA Fisheries related to National Standard 4, 8, and 9

Friday, August 11, 2023

Swearing in of New Council Members and Election of Officers

Business Session

Committee Reports (SSC, Ecosystem and Ocean Planning, Highly Migratory Species); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c).

Special Accommodations

These meetings are physically accessible to people with disabilities. Requests for sign language interpretation or other auxiliary aid should be directed to Shelley Spedden, (302) 526-5251, at least 5 days prior to the meeting date.

Authority: 16 U.S.C. 1801 et seq.

Dated: July 19, 2023.
Rey Israel Marquez,
Acting Deputy Director, Office of Sustainable Fisheries, National Marine Fisheries Service.

[FR Doc. 2023-15628 Filed 7-21-23; 8:45 am]

BILLING CODE 3510-22-P